DEPARTMENT OF COMMERCE

Foreign-Trade Zones Board

[Docket 44-2004]

Foreign-Trade Zone 26—Atlanta, Georgia, Area Application for Expansion

An application has been submitted to the Foreign-Trade Zones (FTZ) Board (the Board) by the Georgia Foreign-Trade Zone, Inc., grantee of Foreign-Trade Zone 26, requesting authority to expand its zone to include additional sites in the Atlanta area, within and adjacent to the Atlanta Customs port of entry. The application was submitted pursuant to the provisions of the Foreign-Trade Zones Act, as amended (19 U.S.C. 81a-81u), and the regulations of the Board (15 CFR Part 400). It was formally filed on September 22, 2004.

FTZ 26 was approved on January 17, 1977 (Board Order 115, 42 FR 4186, 1/24/77); reorganized on April 18, 1988 (Board Order 381, 53 FR 15254, 4/28/88); and, expanded on April 29, 1996 (Board Order 820, 61 FR 21156, 5/9/96), on March 19, 1999 (Board Order 1033, 64 FR 16421, 4/5/99), and on June 21, 2000 (Board Order 1105, 65 FR 39865, 6/28/00). The general-purpose zone project currently consists of the following sites: Site 1 (285 acres, 2 parcels)—adjacent to the Hartsfield-Jackson Atlanta International Airport in Clayton and Fulton Counties and jet fuel storage and distribution facilities; Site 2 (2,472 acres)—Peachtree City Industrial Park, Highway 74 South, Peachtree City; and, Site 3 (85 acres)—Canton-Cherokee County Business and Industrial Park, Brown Industrial Boulevard, Canton.

The applicant is now requesting authority for a major expansion of the zone as described below. The proposal requests authority to expand the zone to include seven additional sites in the cities of Columbus, Griffin, Buford and McDonough, Georgia.

Proposed Site 4—1,152 acres within the 2,124-acre Muscogee Technology Park, located at the intersection of Georgia Highway 22 and State Route 80, Columbus (Muscogee County);

Proposed Site 5—49 acres at the Corporate Ridge/Columbus East Industrial Park, located at the intersection of Schatulga Road and Cargo Drive, Columbus (Muscogee County);

Proposed Site 6—394 acres within the 411-acre Green Valley Industrial Park, located at the intersection of Green Valley Road and State Route 16, Griffin (Spalding County);

Proposed Site 7—64 acres at the Hudson Industrial Park, located at the intersections of Hudson Industrial Drive, Green Valley Road and Futral Road, Griffin (Spalding County);

Proposed Site 8—190 acres at the I-75 Industrial Park, located at the intersection of Wallace Road and Jackson Road, Griffin (Spalding County);

Proposed Site 9—321 acres at the Hamilton Mill Business Center, located at the intersection of Hamilton Mill Road and Interstate 985, Buford (Gwinnett County); and,

Proposed Site 10—212 acres at the ProLogis Park Greenwood, located just west of Interstate 75 at the Georgia State Highway 155 “diamond” interchange, McDonough (Henry County).

No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the addresses below:

1. Submissions via Express/Package Delivery Services: Foreign-Trade Zones Board, U.S. Department of Commerce, Franklin Court Building—Suite 4100W, 1099 14th Street NW., Washington, DC 20005; or

2. Submissions via the U.S. Postal Service: Foreign-Trade Zones Board, U.S. Department of Commerce, FCB—Suite 4100W, 1401 Constitution Avenue NW., Washington, DC 20230.

The closing period for their receipt is November 29, 2004. Rebuttal comments in response to material submitted during the foregoing period may be submitted during the subsequent 15-day period (to December 14, 2004).

A copy of the application and accompanying exhibits will be available for public inspection at the Office of the Foreign-Trade Zones Board's Executive Secretary at the first address listed above, and at the U.S. Department of Commerce, Export Assistance Center, 285 Peachtree Center Avenue NE., Suite 900, Atlanta, GA 30303-1229.

Dated: September 22, 2004.
Dennis Puccinelli,
Executive Secretary.

[FR Doc. 04-21842 Filed 9-28-04; 8:45 am]

BILLING CODE 3510-DS-P